SMALL BUSINESS ADMINISTRATION

[Disaster Declaration #16915 and #16916; Kentucky Disaster Number KY-00083]

Presidential Declaration of a Major Disaster for Public Assistance Only for the Commonwealth of Kentucky

AGENCY: U.S. Small Business Administration.

ACTION: Notice.

SUMMARY: This is a Notice of the Presidential declaration of a major disaster for Public Assistance Only for the Commonwealth of Kentucky (FEMA-4592-DR), dated 03/31/2021.

Incident: Severe Winter Storms, Landslides, and Mudslides.

Incident Period: 02/08/2021 through 02/19/2021.

DATES: Issued on 03/31/2021.

Physical Loan Application Deadline Date: 05/31/2021.

Economic Injury (EIDL) Loan Application Deadline Date: 01/03/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 03/31/2021, Private Non-Profit organizations that provide essential services of a governmental nature may file disaster loan applications at the address listed above or other locally announced locations.

The following areas have been determined to be adversely affected by the disaster:

Primary Counties: Bath, Boyd, Boyle, Breathitt, Carter, Casey, Clark, Clay, Clinton, Elliott, Estill, Fleming, Floyd, Garrard, Greenup, Harlan, Jefferson, Johnson, Laurel, Lawrence, Lee, Leslie, Lewis, Lincoln, Madison, Magoffin, Marion, Martin, McCreary, Menifee, Mercer, Montgomery, Morgan, Nelson, Nicholas, Owsley, Perry, Powell, Pulaski, Rockcastle, Rowan, Wayne, Whitley, Wolfe.

The Interest Rates are:

| Percent
For Physical Damage:
Non-Profit Organizations with Credit Available Elsewhere | 2.000
Non-Profit Organizations without Credit Available Elsewhere | 2.000
For Economic Injury:
Non-Profit Organizations without Credit Available Elsewhere | 2.000

The number assigned to this disaster for physical damage is 16915 B and for economic injury is 16916 0.

(Catalog of Federal Domestic Assistance Number 59008)

James Rivera,
Associate Administrator for Disaster Assistance.

[FR Doc. 2021-07100 Filed 4-6-21; 8:45 am]

BILLING CODE 8026-03-P